DEPARTMENT OF ENERGY

National Energy Technology Laboratory; Notice of Intent To Grant Exclusive License

AGENCY: National Energy Technology Laboratory, Department of Energy.

ACTION: Notice of Intent To Grant Exclusive License.

SUMMARY: This notice is issued in accordance with 35 U.S.C. 209(c)(1) and 37 CFR 404.7(a)(1)(i). The National Energy Technology Laboratory (NETL) hereby gives notice of its intent to grant an exclusive license to practice the invention described and claimed in U.S. Patent Application Number 61/995,405, entitled “Ionic Solvent for the Aluminum Electroplating Process” to LumiShield Technologies, having its principal place of business in Pittsburgh, PA. The invention is owned jointly by the United States of America, as represented by the Department of Energy, and Carnegie Mellon University. The prospective exclusive license complies with the requirements of 35 U.S.C. 209 and 37 CFR 404.7.

DATES: Written comments or nonexclusive license applications are to be received at the address listed below no later than February 17, 2015. Objections submitted in response to this notice will not be made available to the public for inspection and, to the extent permitted by law, will not be released under the Freedom of Information Act, 5 U.S.C. 552.

ADDRESSES: Comments, applications for nonexclusive licenses, or objections relating to the prospective exclusive license should be submitted to Jessica Sosenko, Technology Transfer Program Manager, U.S. Department of Energy, National Energy Technology Laboratory, P.O. Box 10940, Pittsburgh, PA 15236-0940.

FOR FURTHER INFORMATION CONTACT: Jessica Sosenko, Technology Transfer Program Manager, U.S. Department of Energy, National Energy Technology Laboratory, P.O. Box 10940, Pittsburgh, PA 15236-0940; Telephone (412) 386-7417; Email: jessica.sosenko@netl.doe.gov.

SUPPLEMENTARY INFORMATION: Section 209(c) of title 35 of the United States Code gives the U.S. Department of Energy (DOE) the authority to grant exclusive or partially exclusive licenses in Department-owned inventions where a determination can be made, among other things, that the desired practical application of the invention has not been achieved, or is not likely to be achieved expeditiously, under a nonexclusive license. The statute and implementing regulations (37 CFR 404) require that the necessary determinations be made after public notice and opportunity for filing written comments and objections.

LumiShield, a small business, has applied for an exclusive license to practice the invention and has a plan for commercialization of the invention. DOE intends to grant the license, upon a final determination in accordance with 35 U.S.C. 209(c), unless within 15 days of publication of this notice, NETL's Technology Transfer Manager (contact information listed above), receives in writing any of the following, together with supporting documents:

(i) A statement from any person setting forth reasons why it would not be in the best interest of the United States to grant the proposed license; or

(ii) An application for a nonexclusive license to the invention, in which the applicant states that it already has brought the invention to practical application or is likely to bring the invention to practical application expeditiously.

The proposed license will be exclusive, subject to a license and other rights retained by the United States, and subject to a negotiated royalty. DOE will review all timely written responses to this notice, and will grant the license if, after expiration of the 15-day notice period, and after consideration of any written responses to this notice, a determination is made in accordance with 35 U.S.C. 209(c) that the license is in the public interest.

Issued: January 12, 2015.
Grace M. Bochenek,
Director, National Energy Technology Laboratory.

[FR Doc. 2015-01785 Filed 1-29-15; 8:45 am]

BILLING CODE 6450-01-P